DEPARTMENT OF COMMERCE

International Trade Administration

[A-552-801]

Certain Frozen Fish Fillets from the Socialist Republic of Vietnam: Initiation of Antidumping Duty New Shipper Reviews

AGENCY: Import Administration, International Trade Administration, Department of Commerce.

EFFECTIVE DATE: April 2, 2007.

SUMMARY: The Department of Commerce (“Department”) has determined that three requests for a new shipper review of the antidumping duty order on certain frozen fish fillets from the Socialist Republic of Vietnam (“Vietnam”), received on January 31, February 18 and February 28, 2007, respectively, meet the statutory and regulatory requirements for initiation. For reasons discussed below, the Department also determined that a fourth request for a new shipper review does not meet the requirements for initiation. The period of review (“POR”) for the three new shipper reviews which the Department is initiating is August 1, 2006, through January 31, 2007.

FOR FURTHER INFORMATION CONTACT: Cindy Lai Robinson and Michael Holton, AD/CVD Operations, Office 9, Import Administration, International Trade Administration, U.S. Department of Commerce, 14th Street and Constitution Avenue, NW., Washington, DC 20230; telephone: (202) 482-3797, and (202) 482-1324, respectively.

SUPPLEMENTARY INFORMATION:

Background

The notice announcing the antidumping duty order on certain frozen fish fillets from Vietnam was published in the Federal Register on August 12, 2003.¹ See Notice of Antidumping Duty Order: Certain Frozen Fish Fillets from the Socialist Republic of Vietnam, 68 FR 47909 (August 12, 2003). On January 31, February 21, and February 28, 2007, pursuant to 19 CFR 351.214(c), the Department received four new shipper review requests from Vinh Quang Fisheries Corporation (“Vinh Quang”), Ngoc Thai Company, Ltd. (“Ngoc Thai”), Anvifish Co., Ltd., (“Anvifish”), and Southern Fishery Industries Company, Ltd. (“South Vina”), respectively. Vinh Quang, Ngoc Thai, and Anvifish certified that they are both the producer and exporter of the subject merchandise upon which the request for a new shipper review is based. In its new shipper review request dated February 28, 2007 (“original request”), South Vina claimed that it is an exporter of frozen fish fillets from Vietnam; however, it did not provide any information or documents supporting its request for a new shipper review.

¹ Therefore, a request for a new shipper review based on the semiannual anniversary month, February, was due to the Department by the final day of February 2007. See 19 CFR 351.214(d)(1).

On March 8, 2007, Catfish Farmers of America and individual U.S. catfish processors (“Petitioners”) submitted comments requesting that the Department reject South Vina's original request because it failed to provide any of the required certifications or documents set forth in 19 CFR 351.214.² On March 9, 2007, South Vina submitted a certification and other supporting documents alleging that the certification was not available, and that the new shipper regulation does not require that the certification and accompanying documentation be submitted with the original request. Furthermore, South Vina claimed that the pertinent regulation merely requires that the request for review be made within one year of the date referred to in 19 CFR 351.214(b)(2)(iv)(A). On March 15, 2007, Petitioners submitted additional comments urging the Department to reject both South Vina's original new shipper review request and its March 9, 2007, submission. Petitioners reiterated their arguments that South Vina's original request failed to meet any of the submission requirements and should therefore be rejected. Petitioners also argued that South Vina's March 9, 2007, submission was untimely filed and should therefore also be rejected. Citing 19 CFR 351.214(b)(2), Petitioners argued that the Department's regulations unequivocally require applicants to include the necessary certifications and documentation with their new shipper review request. In support of their arguments, Petitioners also referred to the Department's “standard initiation checklist” for new shipper reviews which indicates that, if an application does not satisfy the regulatory requirements, the applicant may only correct such deficiencies “{i}if sufficient time remains ... prior to the end of the appropriate anniversary month or semi-annual anniversary month.”³ Petitioners contended that the submission deadline in this case was February 28, 2007. In other words, Petitioners argued that South Vina should have submitted all of the regulatory requirements, including the submission of the certifications and supporting documentation, by the deadline, February 28, 2007. Because South Vina failed to do so in its original request, Petitioners argued that South Vina's submissions should be rejected.

² See below in Section Initiation of New Shipper Reviews at B. South Vina for the requirements specified in 19 CFR 351.214(b)(2).

³ See Petitioners' March 15, 2007, submission at pages 2 and 3.

On March 22, 2007, South Vina submitted a response to Petitioners' objections of March 15, 2007, comments. Citing several cases in which the Department sent supplemental questionnaires prior to initiation, South Vina argued that the Department should keep South Vina's March 9, 2007, supporting documentation and initiate a new shipper review.

Pursuant to section 751(a)(2)(B)(i)(I) of the Tariff Act of 1930 as amended (“the Act”), and 19 CFR 351.214(b)(2)(i), Vinh Quang, Ngoc Thai, and Anvifish certified that they did not export certain frozen fish fillets to the United States during the period of investigation (“POI”). In addition, pursuant to section 751(a)(2)(B)(i)(II) of the Act and 19 CFR 351.214(b)(2)(iii)(A), Vinh Quang, Ngoc Thai, and Anvifish certified that, since the initiation of the investigation, they have never been affiliated with any Vietnamese exporter or producer who exported certain frozen fish fillets to the United States during the POI, including those not individually examined during the investigation. As required by 19 CFR 351.214(b)(2)(iii)(B), Vinh Quang, Ngoc Thai, and Anvifish also certified that their export activities were not controlled by the central government of Vietnam.

In addition to the certifications described above, pursuant to 19 CFR 351.214(b)(2)(iv), Vinh Quang, Ngoc Thai, and Anvifish submitted documentation establishing the following: (1) The date on which Vinh Quang, Ngoc Thai, and Anvifish first shipped certain frozen fish fillets for export to the United States and the date on which the frozen fish fillets were first entered, or withdrawn from warehouse, for consumption; (2) the volume of their first shipment;⁴ and (3) the date of their first sale to an unaffiliated customer in the United States.

⁴ Vinh Quang made no subsequent shipments to the United States, while Ngoc Thai made one subsequent shipment during the POR, which the Department corroborated using data from U.S. Customs and Border Protection (“CBP”). On page 2 of its submission, Anvifish claimed no subsequent shipments to the United States after its first sale; however, the CBP data indicates that there were subsequent shipments made by Anvifish.

The Department conducted CBP database queries to confirm that Vinh Quang, Ngoc Thai, and Anvifish's shipments of subject merchandise had entered the United States for consumption and that liquidation of such entries had been properly suspended for antidumping duties.

Initiation of New Shipper Reviews

A. Vinh Quang, Ngoc Thai, and Anvifish

Pursuant to section 751(a)(2)(B) of the Act and 19 CFR 351.214(d)(1), the Department finds that Vinh Quang, Ngoc Thai, and Anvifish's requests meet the threshold requirements for initiation of a new shipper review for the shipment of certain frozen fish fillets from Vietnam they produced and exported. See Memorandum to File from Cindy Lai Robinson, Senior Analyst, through Alex Villanueva, Program Manager, Office 9, Initiaion of AD New Shipper Review: Certain Frozen Fish Fillets from Vietnam (A-552-801), dated March 26, 2007.

B. South Vina

The Department finds that South Vina's original review request dated February 28, 2007, did not provide any required supporting documents and therefore, it does not meet the threshold requirements for initiation of a new shipper review for the shipment of certain frozen fish fillets from Vietnam, pursuant to sections 751(a)(2)(B)(i)(I) and (II) of the Act, and 19 CFR 351.214(b)(2)(i), 351.214(b)(2)(iii)(A) and (B), and 351.214(b)(2)(iv). With respect to South Vina's submission on March 9, 2007, the Department agrees with Petitioners that it was submitted untimely for this semi-annual anniversary month because it was received nine days after the deadline, February 28, 2007, which is the last day of the semi-annual anniversary month. The Department disagrees with South Vina's arguments that: (1) the new shipper regulation does not require that the certification and accompanying documentation be submitted with the original request; and (2) the pertinent regulation merely requires that the request for review be made “within one year of the date referred to” in paragraph 19 CFR 351.214(b)(2)(iv)(A). To the contrary, 19 CFR 351.214(b)(2) clearly specifies the “contents of request,” which includes: (1) A certification from the requester or its producer stating that no subject merchandise was exported to the United States (“U.S.”) during the POI; (2) a certification stating that since the initiation of the investigation, the requester has never been affiliated with any exporter or producer who exported subject merchandise to the U.S. during the POI; (3) a certification stating no government control over the requester's export activities in a nonmarket economy case; and (4) information regarding the date of the requester's first entry or shipment of subject merchandise, the volume of the first and all subsequent shipments of subject merchandise to the U.S., and the date of requester's first sale to an unaffiliated U.S. customer. Furthermore, 19 CFR 351.214(a) points out that the purpose of the URAA to establish a new shipper review procedure is to allow new shippers the opportunity to attain their own individual dumping margin on an expedited basis. In accordance with 19 CFR 351.214(d), the Department is required to initiate the new shipper review within a month immediately following the semi-annual anniversary month or the anniversary month depending on the date of the request. Accordingly, the Department must have all required supporting documents on the record by the submission deadline in order to initiate a new shipper review in a timely manner.

As noted above, on March 22, 2007, South Vina submitted a list of cases where the Department sent supplemental questionnaires prior to initiation and therefore, South Vina argues, the Department should accept its March 9, 2007, supporting documentation and initiate a new shipper review. However, in each case cited by South Vina, the requestor included the documents required by section 351.214(b)(2) in its original request, which South Vina did not include in its February 28, 2007, request. Because South Vina did not provide any of the “contents of request” in its original request, and its submission on March 9, 2007, is untimely, the Department has determined that South Vina's request does not meet the statutory and regulatory requirements for initiation. Therefore, the Department has removed South Vina's February 28, 2007, and its March 9, 2007, submissions from the record, and rejected South Vina's new shipper review request, in accordance with sections 751(a)(2)(B)(i)(I) and (II) of the Act, and 19 CFR 351.214.

The POR for the three new shipper reviews is August 1, 2006, through January 31, 2007. See 19 CFR 351.214(g)(1)(ii)(A). The Department intends to issue the preliminary results of these reviews no later than 180 days from the date of initiation, and final results of these reviews no later than 270 days from the date of initiation. See section 751(a)(2)(B)(iv) of the Act. Interested parties requiring access to proprietary information in this new shipper review should submit applications for disclosure under administrative protective order in accordance with 19 CFR 351.305 and 351.306. This initiation and notice are published in accordance with section 751(a)(2)(B) of the Act and 19 CFR 351.214 and 351.221(c)(1)(i).

Dated: March 26, 2007.
Stephen J. Claeys,
Deputy Assistant Secretary for Import Administration.

[FR Doc. E7-6063 Filed 3-30-07; 8:45 am]

BILLING CODE 3510-DS-S